DEPARTMENT OF STATE

[Public Notice: 8824]

Shipping Coordinating Committee; Notice of Committee Meeting

The Shipping Coordinating Committee (SHC) will conduct an open meeting at 9:30 a.m. on Wednesday, August 27, 2014, in Conference Room 4 of the Department of Transportation Headquarters Conference Center, West Building, 1200 New Jersey Avenue SE., Washington, DC 20590. The primary purpose of the meeting is to prepare for the first Session of the International Maritime Organization's (IMO) Sub-Committee on Carriage of Cargoes and Containers to be held at the IMO Headquarters, United Kingdom, September 8-12, 2014.

The agenda items to be considered include:

—Adoption of the agenda

—Decisions of other IMO bodies

—Amendments to CSC 1972 and associated circulars

—Development of international code of safety for ships using gases or other low flashpoint fuels (IGF Code)

—Amendments to the IMSBC Code and supplements

—Amendments to the IMDG Code and supplements

—Unified interpretation to provisions of IMO safety, security and environment related Conventions

—Consideration of reports of incidents involving dangerous goods or marine pollutants in packaged form on board shops or in port areas

—Revised guidelines for packing of cargo transport units

—Biennial agenda and provisional agenda for CCC 2

—Election of Chairman and Vice-Chairman for 2015

Members of the public may attend this meeting up to the seating capacity of the room. Upon request, members of the public may also participate via teleconference, up to the capacity of the teleconference phone line. To facilitate the building security process, and to request reasonable accommodation, those who plan to attend, or participate via the teleconference line, should contact the meeting coordinator, Ms. Amy Parker, by email at Amy.M.Parker@uscg.mil or by phone at (202) 372-1423, not later than August 18, 2014, 7 business days prior to the meeting. Requests made after August 18, 2014 might not be able to be accommodated. Please note that due to security considerations, a valid, government issued photo identification must be presented to gain entrance to the DOT Headquarters building. DOT Headquarters is accessible by metro via the Navy Yard Metrorail Station, taxi, and privately owned conveyance. However, parking in the vicinity of the building is extremely limited. Additional information regarding this and other IMO SHC public meetings may be found at: www.uscg.mil/imo.

This announcement might appear in the Federal Register less than 15 days prior to the meeting. The Department of State finds that there is an exceptional circumstance in that this advisory committee meeting must be held on August 27, in order to adequately prepare for the IMO meeting to be convened on September 8th.

Dated: August 6, 2014.
Marc Zlomek,
Executive Secretary, Shipping Coordinating Committee, Department of State.

[FR Doc. 2014-19035 Filed 8-11-14; 8:45 am]

BILLING CODE 4710-09-P